PENSION BENEFIT GUARANTY CORPORATION

OMB Approval of Information Collections; Duties of Plan Sponsor Following Mass Withdrawal, Notice of Insolvency; Termination of Multiemployer Plans

AGENCY: Pension Benefit Guaranty Corporation.

ACTION: Notice of OMB approval of revised collections of information.

SUMMARY: The Office of Management and Budget has approved revisions to three collections of information under the Pension Benefit Guaranty Corporation's regulations.

FOR FURTHER INFORMATION CONTACT: Catherine B. Klion, Assistant General Counsel for Regulatory Affairs, Office of the General Counsel, Pension Benefit Guaranty Corporation, 1200 K Street NW., Washington, DC 20005-4026; 202-326-4024. (TTY/TDD users may call the Federal relay service toll-free at 1-800-877-8339 and ask to be connected to 202-326-4024.)

SUPPLEMENTARY INFORMATION: On September 17, 2015 (at 80 FR 55742), the Pension Benefit Guaranty Corporation (PBGC) published a final rule amending its regulations on Filing, Issuance, Computation of Time, and Record Retention (29 CFR part 4000), Termination of Multiemployer Plans (29 CFR 4041A), and Duties of Plan Sponsor Following Mass Withdrawal (29 CFR 4281) to require mandatory e-filing of certain multiemployer plan notices starting 2016. The amendments affect three collections of information:

• Duties of Plan Sponsor Following Mass Withdrawal, OMB control number, 1212-0032.

• Notice of Insolvency, OMB control number 1212-0033.

• Termination of Multiemployer Plans, OMB control number 1212-0020.

PBGC submitted the revised collections of information for review by the Office of Management and Budget (OMB) under the Paperwork Reduction Act. On November 24, 2015, OMB approved the revised collections of information through November 30, 2018. An agency may not conduct or sponsor, and a person is not required to respond to, a collection of information unless it displays a currently valid OMB control number.

Issued in Washington, DC, this 2nd day of December, 2015.
Judith Starr,
General Counsel, Pension Benefit Guaranty Corporation.

[FR Doc. 2015-30773 Filed 12-4-15; 8:45 am]

BILLING CODE 7709-02-P